DEPARTMENT OF AGRICULTURE

Rural Utilities Service

Basin Electric Power Cooperative, Inc.: Notice of Availability of a Supplemental Draft Environmental Impact Statement

AGENCY: Rural Utilities Service, USDA.

ACTION: Notice of Availability of a Supplemental Draft Environmental Impact Statement.

SUMMARY: The Rural Utilities Service (RUS), an agency within the U.S. Department of Agriculture (USDA), has issued a Supplemental Draft Environmental Impact Statement (SDEIS) for Basin Electric Power Cooperative's (Basin Electric) proposed Antelope Valley Station (AVS) to Neset 345-kV Transmission Project (proposed Project) in North Dakota. RUS is issuing the SDEIS to inform the public and interested parties about a change in the proposed Project and invite the public to comment on the scope, proposed action, and other issues addressed in the SDEIS. RUS also will use the SDEIS to meet its responsibilities under Section 106 of the National Historic Preservation Act, 16 U.S.C. 470, and its implementing regulations, “Protection of Historic Properties” (36 CFR Part 800).

RUS made the decision to prepare a SDEIS for the AVS Project to evaluate significant project changes. These changes in the scope of the proposed Project are due to an increase in the electric load forecast for western North Dakota. To accommodate this change, the SDEIS will evaluate additional alternatives for the siting of the transmission line.

The SDEIS addresses the construction, operation, and maintenance of approximately 278 miles of new 345-kV single pole transmission line (approximately 85 miles more than the project identified in the Draft EIS http://www.rurdev.usda.gov/UWP-AVS-Neset.html), 230-kV single pole transmission line and double circuit 345/115-kV transmission lines, 4 new substations and a switchyard, modifications to 4 existing substations, maintenance access roads, temporary construction roads, river crossings, temporary construction staging sites, and other facilities to be described in the SDEIS. The overall project area encompasses parts of Dunn, McKenzie, Mercer, Mountrail, and Williams counties in western North Dakota.

Portions of Basin Electric's proposed Project may affect floodplains and wetlands. This NOA also serves as a notice of proposed floodplain or wetland action. RUS will hold a public hearing meeting to share information and receive comments on the SDEIS.

FOR FURTHER INFORMATION CONTACT: For information on the proposed Project, the SDEIS process, and RUS financing, contact Mr. Dennis Rankin, Engineering and Environmental Staff, Rural Utilities Service, 1400 Independence Avenue SW., Stop 1571, Washington, DC 20250-1571, telephone: (202) 720-1953, or email: dennis.rankin@wdc.usda.gov. Parties wishing to be placed on the Project mailing list for future information and to receive copies of the SDEIS and the Final EIS when available should also contact Mr. Rankin.

SUPPLEMENTARY INFORMATION: RUS is authorized to make loans and loan guarantees that finance the construction of electric distribution, transmission, and generation facilities, including system improvements and replacements required to furnish and improve electric service in rural areas, as well as demand side management, energy conservation programs, and on-grid and off-grid renewable energy systems. Based on an interconnection with the Western Area Power Administration's (Western) transmission system, Western has, in accordance with 40 CFR 1501.6, requested to serve as a cooperating agency for the environmental review of the proposed Project. The U.S. Forest Service may issue a special use permit under the Federal Land Policy Management Act and is also serving as a cooperating agency.

Basin Electric is a regional wholesale electric generation and transmission cooperative owned and controlled by its member cooperatives. Basin Electric serves approximately 2.5 million customers covering 430,000 square miles in portions of nine states, including Colorado, Iowa, Minnesota, Montana, Nebraska, New Mexico, North Dakota, South Dakota, and Wyoming.

Project Description: Basin Electric has identified the need for additional electric transmission capacity in northwestern North Dakota to meet reliability and system stability requirements for the region resulting from increases in demand and load forecasts. Investigations and analyses conducted for the overall power delivery systems found that without improvements, the flow of power along existing lines may result in local line overloads, especially in the vicinity of Williston, North Dakota.

To resolve these issues, Basin Electric is proposing to construct, own and operate a new 345-kV transmission line and associated supporting infrastructure. The entire proposed Project will consist of constructing approximately 278 miles of new single circuit 345-kV (approximately 85 miles more than the project identified in the DEIS), 230-kV and double circuit 345/115-kV transmission lines, the construction of 4 new substations and a switchyard, modifications to 4 existing substations, maintenance access roads, temporary construction roads, river crossings, temporary construction staging sites, and other facilities. The proposed Project would connect to the Integrated System at several locations, including Western's Williston Substation. The proposed Project would be located in portions of Dunn, McKenzie, Mercer, Mountrail, and Williams counties in western North Dakota.

The new 345-kV transmission line would start at the AVS Electric Generation Station located near Beulah, North Dakota, and extend west where it would connect with Basin Electric's existing Charlie Creek 345-kV Substation located near Grassy Butte. The line would then extend north where it would connect with Basin Electric's proposed Judson Substation near Williston and terminate at Basin Electric's newly proposed Tande Substation. Additional 230-kV transmission lines would be constructed between the new Judson 345-kV Substation and Western's existing Williston Substation, between a new 345/230/115-kV substation referred to as the Blue Substation and Western's existing 230-kV transmission line, and also between the Tande 345-kV Substation and Basin Electric's existing Neset 230-kV Substation located near Tioga, North Dakota.

Basin Electric has requested financial assistance from RUS for the proposed Project. Along with other technical and financial considerations, completing the EIS is one of RUS's requirements in processing Basin Electric's application.

In accordance with 36 CFR § 800.2(b)(2), Western has been designated as the lead agency for Section 106 review. Following publication of the SDEIS, Western will meet with the Section 106 review consulting parties, including at this time the North Dakota State Historic Preservation Office, the Standing Rock Sioux Tribe, the Sisseton Wahpeton Oyate of the Lake Traverse Reservation and the Killdeer Mountain Battlefield Alliance, to consider and evaluate the effects of the project on historic properties. Anyone wishing to participate in Section 106 review must submit that request in writing via Davie Kluth at Western Area Power Administration, Upper Great Plains region, P.O. Box 35800, Billings, MT 59107-5800 or via email to Kluth@WAPA.GOV.

The proposed Project is subject to the jurisdiction of the North Dakota Public Service Commission (NDPSC), which has regulatory authority for siting electrical transmission facilities within the State. Basin Electric has submitted applications to the NDPSC for Transmission Corridor and Route Permits. The NDPSC Permits would authorize Basin Electric to construct the proposed Project under North Dakota rules and regulations.

RUS has prepared a SDEIS and intends to issue a Final EIS to analyze the impacts of its respective Federal actions and the proposed Project in accordance with the National Environmental Policy Act (NEPA), as amended, Council on Environmental Quality (CEQ) Regulation for Implementing the Procedural Provisions of the NEPA (40 CFR parts 1500-1508), Department of Energy NEPA Implementing Procedures (10 CFR part 1021), and RUS Environmental Policies and Procedures (7 CFR part 1794). RUS has already prepared and published a Draft EIS which was released to the public on December 7, 2012, and can be found on the internet at http://www.rurdev.usda.gov/UWP-AVS-Neset.html.

Because the Project covers a large land area and access in some cases has been restricted, Section 106 review will be phased in accordance with 36 CFR 800.4(b)(2) and 800.5(a)(3). Accordingly, Western will complete Section 106 review using a Programmatic Agreement (PA) pursuant to 36 CFR § 800.14(b)(1)(ii). RUS, at the request of Western, will manage the development and execution of the PA. RUS may issue the Record of Decision for the Final EIS once the PA has been executed.

Because the proposed Project may involve action in floodplains or wetlands, this NOA also serves as a notice of proposed floodplain or wetland action. The SDEIS will include a floodplain/wetland assessment and, if required, a floodplain/wetland statement of findings will be issued with the Final EIS.

Agency Responsibilities: RUS is serving as the lead Federal agency, as defined at 40 CFR 1501.5, for preparation of the SDEIS. Western Area Power Administration and the U.S. Forest Service are participating as cooperating agencies and will be issuing decisions relevant to the proposed Project under separate authorities. Western is also serving as the lead Federal agency for the Section 106 review, as defined at 36 CFR 800.2(b)(2), and for the review of threatened and endangered species under Section 7 of the Endangered Species Act.

Public Participation: Pursuant to 36 CFR 800.22(d)(3), it is the intent of RUS to use its NEPA procedures for public involvement in lieu of the public involvement requirements of 36 CFR 800.3 through 800.7.

RUS held public scoping meetings for the original project on November 15 and 16, 2011. The EIS process has included a scoping comment period to solicit comments from interested parties; publication of a DEIS with a public hearing and comment period; and consultation and involvement with appropriate Federal, State, local, and tribal governmental agencies. A Notice of Intent to prepare a SDEIS was published in the Federal Register on August 16, 2012 (78 FR 50026). In addition, there is a 45-day review/comment period beginning December 20, 2013. RUS will hold an open-house public hearing in January 2014 once the SDEIS is published. The time and location of the meeting will be well-advertised in local media outlets a minimum of 15 days prior to the time of the meeting. Attendees will be welcome to come and go at their convenience and provide written or oral comments on the proposed Project. In addition, attendees may provide written comments by letter, fax, or email to the individual listed in the FOR FURTHER INFORMATION CONTACT section of this notice. Subsequent to the public comment period on the SDEIS, RUS will respond to comments received from all parties and publish a Final EIS. After a 30-day public comment period on the Final EIS, RUS will publish a Record of Decision. The expected environmental project review completion date is expected to be early spring 2014.

Dated: December 12, 2013.
Nivin Elgohary,
Assistant Administrator, Electric Programs, USDA, Rural Utilities Service.

[FR Doc. 2014-00461 Filed 1-13-14; 8:45 am]

BILLING CODE P